DEPARTMENT OF COMMERCE

Bureau of Industry and Security

15 CFR Part 744

[Docket No. 180718671-8671-01]

RIN 0694-AH57

Addition of Certain Entities to the Entity List, Revision of Entries on the Entity List and Removal of Certain Entities From the Entity List

AGENCY: Bureau of Industry and Security, Commerce.

ACTION: Final rule.

SUMMARY: This final rule amends the Export Administration Regulations (EAR) by adding fifteen entities under seventeen entries to the Entity List. These fifteen entities have been determined by the U.S. Government to be acting contrary to the national security or foreign policy interests of the United States and will be listed on the Entity List under the destinations of the People's Republic of China, Hong Kong, Pakistan, Russia, Saudi Arabia, Turkey, the United Arab Emirates and the United Kingdom. This final rule also modifies two entries on the entity list: One entry under the destination of Hong Kong and one entry under the destination of Russia. Lastly, this final rule removes one entity under the destination of Greece from the Entity List. The removal is the result of a request for removal BIS received pursuant to the EAR and a review of information provided in the removal request.

DATES: This rule is effective September 4, 2018.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (15 CFR, subchapter C, part 744, Supplement No. 4) identifies entities reasonably believed to be involved, or to pose a significant risk of being or becoming involved, in activities contrary to the national security or foreign policy interests of the United States. The Export Administration Regulations (EAR) (15 CFR, Subchapter C, parts 730-774) imposes additional license requirements on, and limits the availability of most license exceptions for, exports, reexports, and transfers (in-country) to those listed. The license review policy for each listed entity is identified in the “License review policy” column on the Entity List, and the impact on the availability of license exceptions is described in the relevant Federal Register notice adding entities to the Entity List. BIS places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote, and makes all decisions to remove or modify an entry by unanimous vote.

ERC Entity List Decisions

Additions to the Entity List

This rule implements the decision of the ERC to add fifteen entities under seventeen entries to the Entity List. These fifteen entities are being added based on § 744.11 (License requirements that apply to entities acting contrary to the national security or foreign policy interests of the United States) of the EAR. The seventeen entries added to the Entity List consist of two entries located in the People's Republic of China (China), five entries located in Hong Kong, two entries located in Pakistan, one entry located in Russia, one entry located in Saudi Arabia, two entries located in Turkey, three entries located in the United Arab Emirates (U.A.E.), and one entry located in the United Kingdom. There are seventeen entries for the fifteen entities because one entry is listed in three locations, resulting in two additional entries.

The ERC reviewed § 744.11(b) (Criteria for revising the Entity List) in making the determination to add these fifteen entities under seventeen entries to the Entity List. Under that paragraph, persons for whom there is reasonable cause to believe, based on specific and articulable facts, that they have been involved, are involved, or pose a significant risk of being or becoming involved in, activities that are contrary to the national security or foreign policy interests of the United States, along with those acting on behalf of such persons, may be added to the Entity List. Paragraphs (b)(1) through (5) of § 744.11 provide an illustrative list of activities that could be contrary to the national security or foreign policy interests of the United States.

The ERC determined that the two entities located in China (Ma Yunong and Seajet Company Limited), as well as one entity located in Hong Kong (ZM International Company Ltd.) have been involved in activities that are contrary to the national security and foreign policy interests of the United States as set forth in § 744.11(b). Specifically, the ERC determined that these parties unlawfully procured and diverted U.S.-origin armored vehicles to the Democratic People's Republic of Korea (North Korea) in violation of the EAR. For the remaining four entities located in Hong Kong (Calvin Law, CLC Holdings Limited, LHI Technology (H.K.) Company Limited, and Ray Hui), the ERC determined that these entities have been involved in activities that are contrary to the national security and foreign policy interests of the United States as set forth in § 744.11(b). These four entities procured U.S.-origin items for reexport to entities in China and other countries without obtaining the necessary license(s).

The ERC determined that the U.A.E.-based company Good Luck Shipping LLC has been involved in activities contrary to the national security and foreign policy interests of the United States as set forth in § 744.11(b) of the EAR; this entity has transshipped U.S.-origin items to sanctioned destinations without the required authorizations. The ERC determined that Technology Links Pvt. Ltd., located in Pakistan, be added to the Entity List based on the company's involvement in the supply of items subject to the EAR to nuclear and missile-related Entity List parties in Pakistan without the license required under § 744.11 of the EAR. In addition, the ERC determined that Techcare Services FZ LLC, located in the U.A.E., and UEC (Pvt.) Ltd., located in Pakistan, Saudi Arabia and the U.A.E., made multiple attempts to acquire U.S.-origin commodities ultimately destined for Pakistan's unsafeguarded nuclear program and have provided false and misleading information to BIS during an end-use check.

The ERC also determined that the two entities located in Turkey, Huseyin Engin Borluca and 3K Aviation Consulting and Logistics, along with Evans Meridians Ltd., located in the British Virgin Islands, have engaged in transactions in violation of the U.S. embargo against Iran by transferring, or attempting to transfer, U.S.-origin aircraft engines to an Iranian customer without the required authorizations. Lastly, the ERC determined that the Joint Stock Company (JSC) NIIME be added to the Entity List under the destination of Russia. JSC NIIME operates as the de facto research and development branch of PJSC Mikron, a listed entity on the Entity List. Prior review of exports, reexports and transfers (in-country) involving JSC NIIME will enhance BIS's ability to prevent violations of the EAR.

Pursuant to § 744.11(b) of the EAR, the ERC determined that the conduct of these fifteen entities raises sufficient concern that prior review of exports, reexports or transfers (in-country) of all items subject to the EAR involving these entities, and the possible imposition of license conditions or license denials on shipments to the persons, will enhance BIS's ability to prevent violations of the EAR.

For the fifteen entities under seventeen entries added to the Entity List, BIS imposes a license requirement for all items subject to the EAR, and a license review policy of presumption of denial. The license requirements apply to any transaction in which items are to be exported, reexported, or transferred (in-country) to any of the entities or in which such entities act as purchaser, intermediate consignee, ultimate consignee, or end-user. In addition, no license exceptions are available for exports, reexports, or transfers (in-country) to the entities being added to the Entity List in this rule. The acronym “a.k.a.” (also known as) is used in entries on the Entity List to identify aliases, thereby assisting exporters, reexporters and transferors in identifying entities on the Entity List.

This final rule adds the following fifteen entities under seventeen entries to the Entity List:

China

(1) Ma Yunong, a.k.a., the following one alias:

—George Ma.

B-804 SOHO New Town, 88 Jianguo Road, Chaoyang District, Beijing, 100022, China; and Room 1002, LT Square, No. 500, Chengdu North Road, Shanghai, 200003, China; and Unit 1906-2, West Tower, Fortune Plaza, No. 114, Tiyu Dong Rd, Tianhe District, Guangzhou 510620, China; and

(2) Seajet Company Limited,

B-804 SOHO New Town, 88 Jianguo Road, Chaoyang District, Beijing, 100022, China; and Room 1002, LT Square, No. 500, Chengdu North Road, Shanghai, 200003, China; and Unit 1906-2, West Tower, Fortune Plaza, No. 114, Tiyu Dong Rd, Tianhe District, Guangzhou 510620, China; and No. 2, Juhe 6 Street, Jufuyuan, Business Development Tongzhou Di, Beijing, China; and Room 2, A316 Haidin 9 Road, Tianjin, Port Free Trade Zone, Tianjin, China.

Hong Kong

(1) Calvin Law,

Flat 2808, 28/F, Asia Trade Centre, 79 Lei Muk Road, Kwai Chung, N.T., Hong Kong; and Units 801-803 and 805, Park Sun Building, No. 97-107 Wo Yi Hop Road, Kwai Chung, Hong Kong;

(2) CLC Holdings Limited, a.k.a., the following one alias:

—CLC Xpress.

Flat 2808, 28/F, Asia Trade Centre, 79 Lei Muk Road, Kwai Chung, N.T., Hong Kong; and Units 801-803 and 805, Park Sun Building, No. 97-107 Wo Yi Hop Road, Kwai Chung, Hong Kong;

(3) LHI Technology (H.K.) Company Limited,

Units 801-803 and 805, Park Sun Building, No. 97-107 Wo Yi Hop Road, Kwai Chung, Hong Kong;

(4) Ray Hui,

Units 801-803 and 805, Park Sun Building, No. 97-107 Wo Yi Hop Road, Kwai Chung, N.T., Hong Kong; and

(5) ZM International Company Ltd.,

4/F Enterprise Bldg 228-238, Queen's Road Central, Hong Kong; and Room C, 22/F, 235 Wing Lok Street, Trade Centre, Sheung Wan, Hong Kong.

Pakistan

(1) Technology Links Pvt. Ltd., a.k.a., the following two aliases:

—Techlinks; and

—Techlink Communications.

4/10-11-12 Rimpa Plaza, M.A. Jinnah Road, Karachi, Pakistan; and Suite 3, 2nd Floor, Kashmir Center, 632/G-1 Market Johar Town Lahore, Paksitan; and 111B Block No.2, Mezzanine Floor,

Khalid bin Waleed Road, P.E.C.H.S., Karachi, Pakistan; and

(2) UEC (Pvt.) Ltd.,

29-M, Civic Centre, Model Town Ext. Lahore-43700, Pakistan; and Office No. 610, 6th Floor, Progressive Centre, 30-A, Block No. 6, P.E.C.H.S., Karachi, Pakistan (See alternate addresses under Saudi Arabia and U.A.E.).

Russia

(1) Joint Stock Company (JSC) NIIME, a.k.a., the following two aliases:

—Aktsionernoe Obshchestvo (AO) Nauchnoisledovatelskiy Institut Molekulyarnoy Elektroniki (NIIME); and

—Molecular Electronics Research Institute (MERI).

1st Zapadniy Proezd 12/1, Zelenograd, Russia, 124460.

Saudi Arabia

(1) UEC (Pvt.) Ltd.,

P.O. Box 245221, Riyadh 11312, Kingdom of Saudi Arabia (See alternate addresses under Pakistan and U.A.E.).

Turkey

(1) 3K Aviation Consulting and Logistics, a.k.a., the following one alias:

—3K Havacilik ve Danismanlik SAN. TIC. LTD. ST.

Biniciler Apt. Savas Cad. No. 18/5, Sirinyali Mah. 07160, Antalya, Turkey; and Sonmez Apt. No. 4/5 1523 Sokak, Sirinyali Mah. 07160, Antalya, Turkey; and

(2) Huseyin Engin Borluca,

Biniciler Apt. Savas Cad. No. 18/5, Sirinyali Mah. 07160, Antalya, Turkey; and Sonmez Apt. No. 4/5 1523 Sokak, Sirinyali Mah. 07160, Antalya, Turkey.

United Arab Emirates

(1) Good Luck Shipping LLC, a.k.a., the following two aliases:

—Good Luck Shipping Services; and

—GLS.

Office 206/207 Malik Saeed, Ahmad Ghabbash, Bur Dubai, UAE; and P.O. Box 8486, Dubai, UAE; and PO Box 5562, Dubai, UAE;

(2) Techcare Services FZ LLC,

No. 1, Ground Floor Office 8/D, P.O. Box 312391, Al-Jazeera Al Hamra, UAE; and

(3) UEC (Pvt.) Ltd.,

P.O. Box 97, Abu Dhabi, UAE (See alternate addresses under Pakistan and Saudi Arabia).

United Kingdom

(1) Evans Meridians Ltd.,

Drake Chambers, 1st Floor Yamraj Building, P.O. Box 3321, Road Town, Tortola, British Virgin Islands.

Modifications to the Entity List

This final rule implements the decision of the ERC to modify two existing entries on the Entity List under the destination of Hong Kong and Russia. BIS is revising the entry for Joinus Freight Systems (H.K.) Ltd. by adding an additional alias and address and modifying the entity name and an existing address. In addition, the ERC determined, with the addition of JSC NIIME to the Entity List, the existing entry for “Joint Stock Company Mikron” be revised by modifying the entity name to “PJSC Mikron” and removing its alias.

This final rule makes the following modifications to two entries on the Entity List:

Hong Kong

(1) Joinus Freight Systems (H.K.) Limited, a.k.a., the following two aliases:

—JFS Global Logistics; and

—Joinus Freight Systems Global Logistics Limited.

Unit 07-07, 25F, Tower B, Regent Centre, 63 Wo Yi Hop Road, Kwai Chung, N.T. Hong Kong and Units 801-803 and 805, Park Sun Building, No. 97-107 Wo Yi Hop Road, Kwai Chung, Hong Kong.

Russia

(1) PJSC Mikron,

1st Zapadniy Proezd 12/1, Zelenograd, Russia, 124460.

Removal From the Entity List

This rule implements a decision of the ERC to remove the following entry from the Entity List on the basis of a removal request BIS received: Top Electronics Components S.A., located in Greece. This entry was added to the Entity List on October 9, 2012 (77 FR 61256). The ERC decided to remove this entry based on information BIS received pursuant to § 744.16 of the EAR and the additional review the ERC conducted.

This final rule implements the decision to remove the following one entity located in Greece from the Entity List:

Greece

(1) Top Electronics Components S.A.,

66 Alkminis & Aristovoulov Str, Kato Petralona, Athens, Greece 11853.

Savings Clause

Shipments of items removed from eligibility for a License Exception or export or reexport without a license (NLR) as a result of this regulatory action that were en route aboard a carrier to a port of export or reexport, on September 4, 2018, pursuant to actual orders for export or reexport to a foreign destination, may proceed to that destination under the previous eligibility for a License Exception or export or reexport without a license (NLR).

Export Control Reform Act of 2018

On August 13, 2018, the President signed into law the John S. McCain National Defense Authorization Act for Fiscal Year 2019, which included the Export Control Reform Act of 2018 (ECRA) (Title XVII, Subtitle B of Pub. L. 115-232) that provides the legal basis for BIS's principal authorities and serves as the authority under which BIS issues this rule. As set forth in Section 1768 of ECRA, all delegations, rules, regulations, orders, determinations, licenses, or other forms of administrative action that have been made, issued, conducted, or allowed to become effective under the Export Administration Act of 1979 (50 U.S.C. 4601 et seq.) (as in effect prior to August 13, 2018 and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 8, 2018, 83 FR 39871 (August 13, 2018)), or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the fifteen entities under seventeen entries added to the Entity List in this final rule, the provisions of the Administrative Procedure Act (5 U.S.C. 553) requiring notice of proposed rulemaking, the opportunity for public participation and a 30-day delay in effective date are inapplicable, because this regulation involves a military or foreign affairs function of the United States (5 U.S.C. 553(a)(1)). BIS implementation of this rule is necessary to protect U.S. national security or foreign policy interests by preventing items subject to the EAR from being exported, reexported, or transferred (in-country) to the entities being added to the Entity List. If this rule were delayed to allow for notice and comment and a delay in effective date, the entities being added to the Entity List by this action would continue to be able to receive items subject to the EAR without a license and to conduct activities contrary to the national security or foreign policy interests of the United States. In addition, publishing a proposed rule would give these entities notice of the U.S. Government's intention to place them on the Entity List, which could create an incentive for them to accelerate their receipt of items subject to the EAR to conduct activities that are contrary to the national security or foreign policy interests of the United States, including taking steps to set up additional aliases, change addresses, and engaging in other measures to try to limit the impact of the listing on the Entity List once a final rule is published.

5. For the one entity removed from the Entity List in this final rule, pursuant to the Administrative Procedure Act (APA), 5 U.S.C. 553(b)(3)(B), BIS finds good cause to waive requirements that this rule be subject to notice and the opportunity for public comment because it would be contrary to the public interest. In determining whether to grant a request for removal from the Entity List, a committee of U.S. Government agencies (the End-User Review Committee (ERC)) evaluates information about and commitments made by listed entities requesting removal from the Entity List, the nature and terms of which are set forth in 15 CFR part 744, Supplement No. 5, as noted in 15 CFR 744.16(b). The information, commitments, and criteria for this extensive review were all established through the notice of proposed rulemaking and public comment process (72 FR 31005 (June 5, 2007) (proposed rule), and 73 FR 49311 (August 21, 2008) (final rule)). The removal has been made within the established regulatory framework of the Entity List. If the rule were to be delayed to allow for public comment, U.S. exporters may face unnecessary economic losses as they turn away potential sales to the entities removed by this rule because the customer remained a listed entity on the Entity List even after the ERC approved the removal pursuant to the rule published at 73 FR 49311 on August 21, 2008. By publishing without prior notice and comment, BIS allows the applicant whose removal has been approved by the ERC to receive U.S. exports immediately, subject to any other potential license requirements that may apply under provisions of the EAR other than the Entity List).

Removals from the Entity List involve interagency deliberation and result from review of public and non-public sources, including, where applicable, sensitive law enforcement information and classified information, and the measurement of such information against the Entity List removal criteria. This information is extensively reviewed according to the criteria for evaluating removal requests from the Entity List, as set out in 15 CFR part 744, Supplement No. 5, and 15 CFR 744.16(b). For reasons of national security, BIS is not at liberty to provide to the public detailed information on which the ERC relied to make the decisions to remove these entities. In addition, the information included in the removal request is information exchanged between the applicant and the ERC, which by law (section 12(c) of the Export Administration Act of 1979), BIS is restricted from sharing with the public. Moreover, removal requests from the Entity List contain confidential business information, which is necessary for the extensive review conducted by the U.S. Government in assessing such requests.

Section 553(d) of the APA generally provides that rules may not take effect earlier than thirty (30) days after they are published in the Federal Register. BIS finds good cause to waive the 30-day delay in effectiveness under 5 U.S.C. 553(d)(1) because this rule is a substantive rule that relieves a restriction. This rule's removal of one entity from the Entity List removes requirements (the Entity-List-based license requirement and limitation on use of license exceptions) on this entity. The rule does not impose a requirement on any other person for these removals from the Entity List. Further, no other law requires that a notice of proposed rulemaking and an opportunity for public comment be given for this final rule.

6. The Department finds that there is good cause under 5 U.S.C. 553(b)(3)(B) to waive the provisions of the APA regarding notice of proposed rulemaking, the opportunity for public comment, and a 30-day delay in effective date for the modifications included in this rule because, as described above, they are impracticable and are contrary to the public interest. In addition, the changes are limited to providing additional information that will assist the public in more easily identifying the listed entities on the Entity List.

7. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for part 744 is revised to read as follows:

Authority: Pub. L. 115-232, Title XVII, Subtitle B. 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2017, 82 FR 43825 (September 19, 2017); Notice of November 6, 2017, 82 FR 51971 (November 8, 2017); Notice of January 17, 2018, 83 FR 2731 (January 18, 2018); Notice of August 8, 2018, 83 FR 39871 (August 13, 2018).

2. Supplement No. 4 to part 744 is amended:

a. Under China, the People's Republic of, by adding in alphabetical order two Chinese entities “Ma Yunong” and “Seajet Company Limited”;

b. Under Greece, by removing one Greek entity, “Top Electronics Components S.A., 66 Alkminis & Aristovoulov Str, Kato Petralona, Athens, Greece 11853”;

c. Under Hong Kong:

i. By adding in alphabetical order entities “Calvin Law” and “CLC Holdings Limited”;

ii. By revising entity”Joinus Freight Systems (H.K.) Limited”; and

iii. By adding in alphabetical order entities “LHI Technology (H.K.) Company Limited,” “Rau Hui,” and “ZM International Company Ltd.”;

d. Under Pakistan, by adding in alphabetical order two Pakistani entities “Technology Links PVT. Ltd.”;

e. Under Russia,

i. By revising entity “Joint Stock Company Mikron”; and

ii. By adding in alphabetical order one entity “RJSC Mikron”;

f. By adding in alphabetical order a heading for Saudi Arabia and one Saudi Arabian entity “UEC (Pvt.) Ltd.”;

g. Under Turkey, by adding in alphanumerical order two Turkish entities 3K Aviation Consulting and Logistics” and “Huseyin Engin Borluca”;

h. Under the United Arab Emirates, by adding in alphabetical order three Emirati entities “Good Luck Shipping LLC,” Techare Sevices FZ LLC,” and “UEC (Pvt.) Ltd.”; and

i. Under the United Kingdom, by adding in alphabetical order one British entity “Evans Meridians Ltd.”.

The additions and revisions read as follows:

Supplement No. 4 to Part 744—Entity List

Country | Entity | License requirement | License review policy | Federal Register citation
* * * * * * *
| * * * * * * *
CHINA, PEOPLE'S REPUBLIC OF | Ma Yunong, a.k.a., the following one alias: —George Ma. B-804 SOHO New Town, 88 Jianguo Road, Chaoyang District, Beijing, 100022, China; and Room 1002, LT Square, No. 500, Chengdu North Road, Shanghai, 200003, China; and Unit 1906-2, West Tower, Fortune Plaza, No. 114, Tiyu Dong Rd, Tianhe District, Guangzhou 510620, China | For all items subject to the EAR. (See § 744.11 of the EAR) | Presumption of denial | 83 FR [INSERT FR PAGE NUMBER 9/4/2018].
| * * * * * * *
| Seajet Company Limited, B-804 SOHO New Town, 88 Jianguo Road, Chaoyang District, Beijing, 100022, China; and Room 1002, LT Square, No. 500, Chengdu North Road, Shanghai, 200003, China; and Unit 1906-2, West Tower, Fortune Plaza, No. 114, Tiyu Dong Rd, Tianhe District, Guangzhou 510620, China; and No. 2, Juhe 6 Street, Jufuyuan, Business Development Tongzhou Di, Beijing, China; and Room 2, A316 Haidin 9 Road, Tianjin, Port Free Trade Zone, Tianjin, China | For all items subject to the EAR. (See § 744.11 of the EAR) | Presumption of denial | 83 FR [INSERT FR PAGE NUMBER 9/4/2018].
| * * * * * * *
* * * * * * *
| * * * * * * *
HONG KONG | Calvin Law, Flat 2808, 28/F, Asia Trade Centre, 79 Lei Muk Road, Kwai Chung, N.T., Hong Kong; and Units 801-803 and 805, Park Sun Building, No. 97-107 Wo Yi Hop Road, Kwai Chung, Hong Kong | For all items subject to the EAR. (See § 744.11 of the EAR) | Presumption of denial | 83 FR [INSERT FR PAGE NUMBER 9/4/2018].
| * * * * * * *
| CLC Holdings Limited, a.k.a., the following one alias: —CLC Xpress Flat 2808, 28/F, Asia Trade Centre, 79 Lei Muk Road, Kwai Chung, N.T., Hong Kong; and Units 801-803 and 805, Park Sun Building, No. 97-107 Wo Yi Hop Road, Kwai Chung, Hong Kong | For all items subject to the EAR. (See § 744.11 of the EAR) | Presumption of denial | 83 FR [INSERT FR PAGE NUMBER 9/4/2018].
| * * * * * * *
| Joinus Freight Systems (H.K.) Limited, a.k.a., the following two aliases: —JFS Global Logistics; and —Joinus Freight Systems Global Logistics Limited Unit 07-07, 25F, Tower B, Regent Centre, 63 Wo Yi Hop Road, Kwai Chung, N.T. Hong Kong and Units 801-803 and 805, Park Sun Building, No. 97-107 Wo Yi Hop Road, Kwai Chung, Hong Kong | For all items subject to the EAR. (See § 744.11 of the EAR) | Presumption of denial | 83 FR [INSERT FR PAGE NUMBER 9/4/2018].
| * * * * * * *
| LHI Technology (H.K.) Company Limited, Units 801-803 and 805, Park Sun Building, No. 97-107 Wo Yi Hop Road, Kwai Chung, Hong Kong | For all items subject to the EAR. (See § 744.11 of the EAR) | Presumption of denial | 83 FR [INSERT FR PAGE NUMBER 9/4/2018].
| * * * * * * *
| Ray Hui, Units 801-803 and 805, Park Sun Building, No. 97-107 Wo Yi Hop Road, Kwai Chung, N.T., Hong Kong | For all items subject to the EAR. (See § 744.11 of the EAR) | Presumption of denial | 83 FR [INSERT FR PAGE NUMBER 9/4/2018].
| * * * * * * *
| ZM International Company Ltd., 4/F Enterprise Bldg 228-238, Queen's Road Central, Hong Kong; and Room C, 22/F, 235 Wing Lok Street, Trade Centre, Sheung Wan, Hong Kong | For all items subject to the EAR. (See § 744.11 of the EAR) | Presumption of denial | 83 FR [INSERT FR PAGE NUMBER 9/4/2018].
* * * * * * *
PAKISTAN
| * * * * * * *
| Technology Links Pvt. Ltd., a.k.a., the following two aliases: —Techlinks; and —Techlink Communications 4/10-11-12 Rimpa Plaza, M.A. Jinnah Road, Karachi, Pakistan; and Suite 3, 2nd Floor, Kashmir Center, 632/G-1 Market Johar Town, Lahore, Pakistan; and 111B Block No.2, Mezzanine Floor, Khalid bin Waleed Road, P.E.C.H.S., Karachi, Pakistan | For all items subject to the EAR. (See § 744.11 of the EAR) | Presumption of denial | 83 FR [INSERT FR PAGE NUMBER 9/4/2018].
| * * * * * * *
| —UEC (Pvt.) Ltd., 29-M, Civic Centre, Model Town Ext. Lahore-43700, Pakistan; and Office No. 610, 6th Floor, Progressive Centre, 30-A, Block No. 6, P.E.C.H.S., Karachi, Pakistan (See alternate addresses under Saudi Arabia and U.A.E.) | For all items subject to the EAR. (See § 744.11 of the EAR) | Presumption of denial | 83 FR [INSERT FR PAGE NUMBER 9/4/2018].
| * * * * * * *
* * * * * * *
RUSSIA
| * * * * * * *
| Joint Stock Company (JSC) NIIME, a.k.a., the following two aliases: —Aktsionernoe Obshchestvo (AO) Nauchnoisledovatelskiy Institut Molekulyarnoy Elektroniki (NIIME); and —Molecular Electronics Research Institute (MERI) 1st Zapadniy Proezd 12/1, Zelenograd, Russia, 124460 | For all items subject to the EAR. (See § 744.11 of the EAR) | Presumption of denial | 83 FR [INSERT FR PAGE NUMBER 9/4/2018].
| * * * * * * *
| PJSC Mikron, 1st Zapadniy Proezd 12/1, Zelenograd, Russia, 124460 | For all items subject to the EAR. (See § 744.11 of the EAR) | Presumption of denial | 83 FR [INSERT FR PAGE NUMBER 9/4/2018].
| * * * * * * *
SAUDI ARABIA | UEC (Pvt.) Ltd., P.O. Box 245221, Riyadh 11312, Kingdom of Saudi Arabia (See alternate addresses under Pakistan and U.A.E.) | For all items subject to the EAR. (See § 744.11 of the EAR) | Presumption of denial | 83 FR [INSERT FR PAGE NUMBER 9/4/2018].
* * * * * * *
TURKEY | 3K Aviation Consulting and Logistics, a.k.a., the following one alias: —3K Havacilik ve Danismanlik SAN. TIC. LTD. ST Biniciler Apt. Savas Cad. No. 18/5, Sirinyali Mah. 07160, Antalya, Turkey; and Sonmez Apt. No. ⅘ 1523 Sokak, Sirinyali Mah. 07160, Antalya, Turkey | For all items subject to the EAR. (See § 744.11 of the EAR.) | Presumption of denial | 83 FR [INSERT FR PAGE NUMBER 9/4/2018].
| * * * * * * *
| Huseyin Engin Borluca, Biniciler Apt. Savas Cad. No. 18/5, Sirinyali Mah. 07160, Antalya, Turkey; and Sonmez Apt. No. ⅘ 1523 Sokak, Sirinyali Mah. 07160, Antalya, Turkey | For all items subject to the EAR. (See § 744.11 of the EAR.) | Presumption of denial | 83 FR [INSERT FR PAGE NUMBER 9/4/2018].
| * * * * * * *
* * * * * * *
| * * * * * * *
UNITED ARAB EMIRATES | Good Luck Shipping LLC, a.k.a., as the following two aliases: —Good Luck Shipping Services; and —GLS Office 206/207 Malik Saeed, Ahmad Ghabbash, Bur Dubai, UAE; and P.O. Box 8486, Dubai, UAE; PO Box 5562, Dubai, UAE | For all items subject to the EAR. (See § 744.11 of the EAR.) | Presumption of denial | 83 FR [INSERT FR PAGE NUMBER 9/4/2018].
| * * * * * * *
| Techcare Services FZ LLC, No. 1, Ground Floor Office 8/D, P.O. Box 312391, Al-Jazeera Al Hamra, UAE | For all items subject to the EAR. (See § 744.11 of the EAR.) | Presumption of denial | 83 FR [INSERT FR PAGE NUMBER 9/4/2018].
| * * * * * * *
| UEC (Pvt.) Ltd., P.O. Box 97, Abu Dhabi, UAE (See alternate addresses under Pakistan and Saudi Arabia) | For all items subject to the EAR. (See § 744.11 of the EAR.) | Presumption of denial | 83 FR [INSERT FR PAGE NUMBER9/4/2018].
| * * * * * * *
* * * * * * *
| * * * * * * *
UNITED KINGDOM | Evans Meridians Ltd., Drake Chambers, 1st Floor Yamraj Building, PO Box 3321, Road Town, Tortola, British Virgin Islands | For all items subject to the EAR. (See § 744.11 of the EAR.) | Presumption of denial | 83 FR [INSERT FR PAGE NUMBER 9/4/2018].
| * * * * * * *
* * * * * * *

Dated: August 24, 2018.
Richard E. Ashooh,
Assistant Secretary for Export Administration.

[FR Doc. 2018-18766 Filed 8-31-18; 8:45 am]

BILLING CODE 3510-33-P